DEPARTMENT OF TRANSPORTATION

Federal Aviation Administration

14 CFR Part 39

[Docket No. FAA-2006-25965; Directorate Identifier 2006-NM-127-AD]

RIN 2120-AA64

Airworthiness Directives; Airbus Model A300 B2 and B4 Series Airplanes Equipped With General Electric CF6-50 Engines

AGENCY: Federal Aviation Administration (FAA), Department of Transportation (DOT).

ACTION: Notice of proposed rulemaking (NPRM).

SUMMARY: The FAA proposes to supersede an existing airworthiness directive (AD) that applies to Airbus Model A300 B2 and B4 series airplanes equipped with General Electric CF6-50 engines. The existing AD currently requires deactivating both thrust reversers and revising the airplane flight manual (AFM) to require performance penalties during certain takeoff conditions to ensure that safe and appropriate performance is achieved for airplanes on which both thrust reversers have been deactivated. This proposed AD would require one-time inspections of the directional pilot valve (DPV), the rocker arm and associated hardware, and corrective actions if necessary; reactivation of both thrust reversers; and repetitive inspections of the DPV and the associated control mechanism of the thrust reversers for incorrect assembly or excessive wear, and corrective actions if necessary. Accomplishing all of the proposed actions would allow the removal of the AFM limitations in the existing AD. This proposed AD results from reports indicating that the DPV was assembled incorrectly; further investigation revealed excessive wear on certain correctly assembled DPVs and the associated control mechanism. We are proposing this AD to prevent uncommanded in-flight deployment of a thrust reverser, which could result in reduced controllability of the airplane.

DATES: We must receive comments on this proposed AD by November 2, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tom Stafford, Aerospace Engineer International Branch, ANM-116, FAA, International Branch, Transport Airplane Directorate, 1601 Lind Avenue, SW., Renton, Washington 98057-3356; telephone (425) 227-1622; fax (425) 227-1149.

SUPPLEMENTARY INFORMATION:

Comments Invited

We invite you to submit any relevant written data, views, or arguments regarding this proposed AD. Send your comments to an address listed in the ADDRESSES section. Include the docket number “Docket No. FAA-2006-25965; Directorate Identifier 2006-NM-127-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On April 19, 2002, we issued AD 2002-08-51, amendment 39-12728 (67 FR 21569, May 1, 2002), for Airbus Model A300 B2 and B4 series airplanes equipped with General Electric CF6-50 engines. That AD requires deactivating both thrust reversers and revising the airplane flight manual (AFM) to require performance penalties during certain takeoff conditions to ensure that safe and appropriate performance is achieved for airplanes on which both thrust reversers have been deactivated. That AD resulted from the issuance of mandatory continuing airworthiness information by a foreign civil airworthiness authority. We issued that AD to prevent uncommanded in-flight deployment of a thrust reverser, which could result in reduced controllability of the airplane.

Actions Since Existing AD Was Issued

The actions required by AD 2002-08-51 are considered “interim action” until final action was identified. We have determined that further rulemaking action to address that final action is necessary; this proposed AD follows from that determination. Since AD 2002-08-51 was issued, Airbus issued service information that provides instructions for reactivating the thrust reversers through the implementation of a program that involves one-time and follow-on repetitive inspections, and parts replacement if necessary. We approved this program as an alternative method of compliance (AMOC) with the requirements of AD 2002-08-51, allowing for reactivation of the thrust reversers and removal of the AFM limitations.

Relevant Service Information

Airbus has issued All Operators Telex (AOT) A300-78A0024, dated May 29, 2002. The AOT describes using the procedures in the Airbus A300 Airplane Maintenance Manual to reactivate the thrust reversers after accomplishing an inspection for correct assembly or excessive wear of the directional pilot valve (DPV) and excessive wear of the DPV rocker arm, and corrective actions (parts replacement) if necessary. Accomplishing these actions would eliminate the need for the AFM limitations.

Airbus has also issued Service Bulletin A300-78-0025, Revision 01, including Appendix 01, dated February 16, 2005. The service bulletin describes procedures for repetitive detailed visual inspections of the DPV and the associated control mechanism of the thrust reverser for incorrect assembly or excessive wear, and corrective actions if necessary. The inspections are done following reactivation of the thrust reversers. The corrective actions include repair of any discrepancies in the DPV and replacing any damaged parts in the associated control mechanism.

The Direction Générale de l'Aviation Civile (DGAC), which is the airworthiness authority for France, mandated the Airbus service information and issued French airworthiness directives 2002-293(B), dated June 12, 2002; and F-2005-208, dated December 21, 2005, to ensure the continued airworthiness of these airplanes in France.

The Airbus AOT refers to Middle River Aircraft Systems CF6-50 Alert Service Bulletin 78A3040, Revision 2, dated June 18, 2004, (including Honeywell Service Bulletin 121332-78-1620, Revision 2, dated June 18, 2004), as an additional source of service information for accomplishing the inspections. The Airbus service bulletin refers to Middle River Aircraft Component Maintenance Manual 78-31-06, Revision 10, dated May 31, 2005, as an additional source of service information for replacing defective components.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States.

This proposed AD would supersede AD 2002-08-51 and would retain the requirements of the existing AD. This proposed AD would also require inspections of the DPV and the rocker arm and associated hardware; reactivation of both thrust reversers; and repetitive inspections of the DPV and the associated control mechanism of the thrust reversers for incorrect assembly or excessive wear, and corrective actions if necessary. Accomplishing the inspections of the DPV and the rocker arm and associated hardware, followed by the reactivation of the thrust reversers, would eliminate the need for the AFM limitations required by the existing AD.

Clarification of Inspection Terminology

In this proposed AD, the “detailed visual inspection” specified in the Airbus service bulletin, and the “inspection” required by the French airworthiness directives, are referred to as a “detailed inspection.” We have included the definition for a detailed inspection in a note in the proposed AD.

Change to Existing AD

This proposed AD would retain all requirements of AD 2002-08-51. Since AD 2002-08-51 was issued, the AD format has been revised, and certain paragraphs have been rearranged. As a result, the corresponding paragraph identifiers have changed in this proposed AD, as listed in the following table:

Revised Paragraph Identifiers
Requirement in AD 2002-08-51 | Corresponding requirement in this proposed AD
Paragraph (a) | Paragraph (f).

Costs of Compliance

This proposed AD would affect about 30 airplanes of U.S. registry.

The actions that are required by AD 2002-08-51, and retained in this proposed AD take about 3 work hours per airplane, at an average labor rate of $80 per work hour. Based on these figures, the estimated cost of the currently required actions is $240 per airplane.

The new proposed inspection and reactivation specified in Airbus AOT A300-78A0024 would take about 9 work hours per airplane, at an average labor rate of $80 per work hour. Based on these figures, the estimated cost of the new inspection and reactivation specified in this proposed AD for U.S. operators is $21,600, or $720 per airplane.

The new proposed inspections specified in Airbus Service Bulletin A300-78-0025 would take about 7 work hours per airplane, at an average labor rate of $80 per work hour. Based on these figures, the estimated cost of the new inspections specified in this proposed AD for U.S. operators is $16,800, or $560 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12728 (67 FR 21569, May 1, 2002) and adding the following new airworthiness directive (AD):

Airbus: Docket No. FAA-2006-25965; Directorate Identifier 2006-NM-127-AD.

Comments Due Date

(a) The FAA must receive comments on this AD action by November 2, 2006.

Affected ADs

(b) This AD supersedes AD 2002-08-51.

Applicability

(c) This AD applies to Airbus Model A300 airplanes, certificated in any category, equipped with General Electric CF6-50 engines.

Unsafe Condition

(d) This AD results from reports indicating that the directional pilot valve (DPV) was assembled incorrectly; further investigation revealed excessive wear on certain correctly assembled DPVs and the associated control mechanism. We are issuing this AD to prevent uncommanded in-flight deployment of a thrust reverser, which could result in reduced controllability of the airplane.

Compliance

(e) You are responsible for having the actions required by this AD performed within the compliance times specified, unless the actions have already been done.

Restatement of Requirements of AD 2002-08-51

Thrust Reverser Deactivation and Airplane Flight Manual (AFM) Revision

(f) Within 72 clock hours after May 6, 2002 (the effective date of AD 2002-08-51), accomplish paragraphs (f)(1) and (f)(2) of this AD.

(1) Deactivate both thrust reversers according to Airbus All Operators Telex A300/78A0023, dated April 5, 2002.

(2) Revise the Limitations Section of the AFM to include the following (this may be accomplished by inserting a copy of this AD into the AFM):

“When the runway is wet or contaminated, reduce by five percent the corrected acceleration-stop distance resulting from the airplane flight manual takeoff performance analysis.

(Note: This supersedes any relief provided by the Master Minimum Equipment List (MMEL).)”

New Requirements of This AD

Inspections and Corrective Actions

(g) Within 6 months after the effective date of this AD: Do the actions specified in paragraphs (g)(1), (g)(2), and (g)(3) of this AD in consecutive order, in accordance with the procedures specified in Airbus All Operators Telex (AOT) A300-78A0024, dated May 29, 2002, which ends the requirements in paragraph (f) of this AD.

(1) Do a detailed inspection of the DPV on each thrust reverser for incorrect assembly, incorrect diameter, or excessive wear, by doing all the applicable actions, including all applicable corrective actions. All applicable corrective actions must be done before further flight.

(2) Do a detailed inspection of the rocker arm of the DPV for excessive wear by doing all the applicable actions, including all applicable corrective actions. All applicable corrective actions must be done before further flight.

(3) Reactivate both thrust reversers and do a one-time operational test before further flight.

Note 1: Airbus AOT A300-78A0024, dated May 29, 2002, refers to Middle River Aircraft Systems CF6-50 Alert Service Bulletin 78A3040, Revision 2, dated June 18, 2004 (including Honeywell Service Bulletin 121332-78-1620, Revision 2, dated June 18, 2004), as an additional source of service information for accomplishing the inspections.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Repetitive Inspections/Corrective Actions

(h) Within 18 months after accomplishing paragraph (g) of this AD: Do a detailed inspection of the DPV and the associated control mechanism of the thrust reverser for incorrect assembly or excessive wear, by doing all the applicable actions, including all applicable corrective actions, in accordance with Airbus Service Bulletin A300-78-0025, Revision 01, excluding Appendix 01, dated February 16, 2005. All applicable corrective actions must be done before further flight. Repeat the inspection thereafter at intervals not to exceed 8,000 flight hours.

Note 3: Airbus Service Bulletin A300-78-0025, Revision 01, dated February 16, 2005, refers to Middle River Aircraft Systems Component Maintenance Manual 78-31-06, Revision 10, dated May 31, 2005, as an additional source of service information for replacing defective components.

Actions Accomplished Previously

(i) Inspections and corrective actions done before the effective date of this AD in accordance with Airbus Service Bulletin A300-78-0025, dated July 21, 2004, is acceptable for compliance with the corresponding requirements of paragraph (h) of this AD.

Alternative Methods of Compliance (AMOCs)

(j)(1) The Manager, International Branch, ANM-116, Transport Airplane Directorate, FAA, has the authority to approve AMOCs for this AD, if requested in accordance with the procedures found in 14 CFR 39.19.

(2) AMOCs approved previously in accordance with AD 2002-08-51, are not approved as AMOCs with this AD.

(3) Before using any AMOC approved in accordance with § 39.19 on any airplane to which the AMOC applies, notify the appropriate principal inspector in the FAA Flight Standards Certificate Holding District Office.

Related Information

(k) French airworthiness directives 2002-293(B), dated June 12, 2002, and F-2005-208, dated December 21, 2005, also address the subject of this AD.

Issued in Renton, Washington, on September 22, 2006.
Ali Bahrami,
Manager, Transport Airplane Directorate, Aircraft Certification Service.

[FR Doc. E6-16201 Filed 10-2-06; 8:45 am]

BILLING CODE 4910-13-P